ENVIRONMENTAL PROTECTION AGENCY

[ER-FRL-9050-3]

Environmental Impact Statements; Notice of Availability

Responsible Agency: Office of Federal Activities, General Information 202-564-5632 or https://www.epa.gov/nepa.

Weekly receipt of Environmental Impact Statements (EIS)

Filed March 30, 2020, 10 a.m. EST Through April 6, 2020, 10 a.m. EST Pursuant to 40 CFR 1506.9.

Section 309(a) of the Clean Air Act requires that EPA make public its comments on EISs issued by other Federal agencies. EPA's comment letters on EISs are available at: https://cdxnodengn.epa.gov/cdx-enepa-public/action/eis/search.

EIS No. 20200079, Final, NHTSA, REG, Final EIS for The Safer Affordable Fuel-Efficient (SAFE) Vehicles Rule for Model Year 2021-2026 Passenger Cars and Light Trucks, Contact: Vinay Nagabhushana 202-366-1452.

Under 49 U.S.C. 304a(b), NHTSA has concurrently issued a final environmental impact statement and record of decision. Therefore, the 30-day wait/review period under NEPA does not apply to this action.

EIS No. 20200080, Revised Final, USFS, WY, Medicine Bow Landscape Vegetation Analysis (LaVA) Project, Review Period Ends: 05/11/2020, Contact: Melissa Martin 307-745-2371.

EIS No. 20200081, Draft, TVA, IL, Sugar Camp Energy, LLC Mine Number 1, Comment Period Ends: 05/27/2020, Contact: Elizabeth Smith 865-632-3053.

EIS No. 20200082, Final, USFS, CO, Rio Grande Forest Plan Revision, Review Period Ends: 05/11/2020, Contact: Judi Perez 719-588-8889.

EIS No. 20200083, Final, BLM, NM, Borderlands Wind Project Final Environmental Impact Statement and Proposed Resource Management Plan Amendment, Review Period Ends: 05/11/2020, Contact: James Stobaugh 775-861-6478.

EIS No. 20200084, Revised Draft, GSA, AZ, Expansion and Modernization of the San Luis I Land Port of Entry, Comment Period Ends: 07/02/2020, Contact: Osmahn Kadri 415-522-3617.

EIS No. 20200085, Final, USACE, CA, Final Sacramento River Bank Protection Project Phase II Supplemental Authorization Environmental Impact Statement/Environmental Impact Report, Review Period Ends: 05/11/2020, Contact: Patricia Goodman 916-557-7420.

Amended Notice

EIS No. 20200055, Draft, CHSRA, CA, California High-Speed Rail: Bakersfield to Palmdale Section Draft Environmental Impact Report/Environmental Impact Statement, Comment Period Ends: 04/28/2020, Contact: Dan McKell 916-501-8320. Revision to FR Notice Published 2/28/2020; Extending the Review Period from 4/13/2020 to 4/28/2020.

Dated: April 6, 2020.
Cindy S. Barger,
Director, NEPA Compliance Division, Office of Federal Activities.

[FR Doc. 2020-07572 Filed 4-9-20; 8:45 am]

BILLING CODE 6560-50-P